FEDERAL COMMUNICATIONS COMMISSION

Public Information Collections Approved by Office of Management and Budget

November 6, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Wilson, Federal Communications Commission, 445 12th Street, SW., Washington DC, 20554, (202) 418-2247 or via the Internet at Dana.Wilson@fcc.gov.

SUPPLEMENTARY INFORMATION: OMB Control No.: 3060-0439.

OMB Approval Date: 10/10/2007.

Expiration Date: 10/31/2010.

Title: Section 64.201, Regulations Concerning Indecent Communications by Telephone.

Form No.: N/A.

Estimated Annual Burden: 1,632 hours.

Needs and Uses: Under Section 223 of the Communications Act of 1932, as amended, telephone companies are required, to the extent technically feasible, to prohibit access to indecent communications from the telephone of a subscriber who has not previously requested access. 47 CFR 64.201 of the Commission's rules implements Section 223 of the Communications Act and contains several information collection requirements: (1) A requirement that certain common carriers block access to indecent messages unless the subscriber seeks access from the common carrier (telephone company) in writing; (2) A requirement that adult message service providers notify their carriers of the nature of their programming; and (3) A requirement that a provider of adult message services request that their carrier identify it as such in bills to its subscribers. The information requirements are imposed on carriers, adult message service providers, and those who solicit their services to ensure that minors are denied access to material deemed indecent.

OMB Control No.: 3060-0665.

OMB Approval Date: 10/10/2007.

Expiration Date: 10/31/2010.

Title: Section 64.707, Public Dissemination of Information by Providers of Operator Services.

Form No.: N/A.

Estimated Annual Burden: 1,744 hours.

Needs and Uses: As required by 47 U.S.C. 226(d)(4)(b) of the Communication's Act, 47 CFR 64.707 of the Commission's rules, provides that operator service providers must regularly publish and make available upon request from consumers written materials that describe any changes in operator services and choices available to consumers. Consumers use the information to increase their knowledge of the choices available to them in the operator services marketplace.

OMB Control No.: 3060-0787.

OMB Approval Date: 11/5/2007.

Expiration Date: 11/30/2010.

Title: Implementation of the Subscriber Carrier Selection Changes Provisions of the Telecommunications Act of 1996, Policies and Rules Concerning Unauthorized Changes of Consumers' Long Distance Carriers, CC Docket No. 94-129, FCC 03-42.

Form No.: N/A.

Estimated Annual Burden: 105,901 hours.

Needs and Uses: Section 258 of the Telecommunications Act of 1996 directed the Commission to prescribe rules to prevent the unauthorized change by telecommunications carriers of consumers' selections of telecommunications service providers (slamming). On March 17, 2003, the FCC released the Third Order on Reconsideration and Second Further Notice of Proposed Rulemaking, CC Docket No. 94-129, FCC 03-42 (Third Order on Reconsideration), in which the Commission revised and clarified certain rules to implement section 258 of the 1996 Act. On May 23, 2003, the Commission also released an Order (CC Docket No. 94-129, FCC 03-116) clarifying certain aspects of the Third Order on Reconsideration. The rules and requirements implementing section 258 can be found primarily at 47 CFR part 64. These rules will continue to enable the Commission to deter slamming, while protecting consumers from carriers that take advantage of consumer confusion over different types of telecommunications services.

OMB Control No.: 3060-0973.

OMB Approval Date: 10/10/2007.

Expiration Date: 10/31/2010.

Title: Section 64.1120(e), Sale or Transfer of Subscriber Base to Another Carrier (CC Dockets 00-257 and 94-129).

Form No.: N/A.

Estimated Annual Burden: 525 hours.

Needs and Uses: Pursuant to 47 CFR 64.1120(e) of the Commission's rules, an acquiring carrier will self-certify to the Commission, in advance of the transfer, that the carrier will comply with the required procedures, including giving advance notice to the affected subscribers in a manner that ensures the protection of their interests. By streamlining the carrier change rules, the Commission will continue to protect consumers' interests and, at the same time, will ensure that its rules do not inadvertently inhibit routine business transactions. On July 16, 2004, the Commission released a First Order on Reconsideration and Fourth Order on Reconsideration which made a minor modification to 47 CFR 64.1120(e)(iii) of the Commission's rules.

The modification in the rule did not impose any new or modified information collection requirements nor did it affect the existing annual hourly and cost changes.

OMB Control No.: 3060-1089.

OMB Approval Date: 10/22/2007.

Expiration Date: 10/31/2007.

Title: Emergency Access Notice of Proposed Rulemaking (NPRM) and Internet-Protocol (IP) Relay/ Video Relay Service (VRS) Fraud Further Notice of Proposed Rulemaking (FNPRM); VRS Interoperability FNPRM, CG Docket No. 03-123.

Form No.: N/A.

Estimated Annual Burden: 34,016 hours.

Needs and Uses: The Commission has revised collection 3060-1089 to consolidate/merge the information collection requirements of 3060-1091 into this collection. The Commission concluded that these two proposed information collections are similar because these collections involve the same respondents and contain similar data of identifiable information in order: (1) To facilitate 911 emergency calls; (2) to improve interoperability for VRS and IP Relay services; and (3) to curtail misuse of VRS and IP Relay services. The Commission does not collect this information. The Commission requires respondents to collect this information. On October 22, 2007, the Commission received OMB's approval to consolidate/merged the information collection requirements contained in 3060-1091 into information collection requirements of 3060-1089. Therefore, OMB Control No. 3060-1091 is discontinued and will be eliminated. On November 30 2005, the Commission released a Notice of Proposed Rulemaking (NPRM), CG Docket No. 03-123, which addressed the issue of access to emergency services for Internet-based forms of Telecommunications Relay Services (TRS), namely VRS and IP Relay Service. The Commission sought to adopt means to ensure that such calls promptly reach the appropriate emergency service provider. By doing so, the NPRM sought comment on the following issues:

(1) Whether the Commission VRS and IP Relay service providers to establish a registration process in which VRS and IP Relay service users provide, in advance, the primary location from which they will be making VRS or IP Relay service calls (the Registered Location), so that a communications assistant (CA) can identify the appropriate Public Safety Answering Point (PSAP) to contact; (2) whether VRS and IP Relay providers should be required to register their customers and obtain a Registered Location from their customers so that they will be able to make the outbound call to the appropriate PSAP; (3) whether there are other means by which VRS and IP Relay service providers may obtain Registered Location information, for example, by linking the serial number of the customer's VRS or IP Relay service terminal or equipment to their registered location; (4) whether any privacy considerations might be raised by requiring VRS and IP Relay service users to provide location information as a prerequisite to using these services; (5) whether, assuming some type of location registration requirement is adopted, the Commission should require specific information or limit the scope of information that providers should be able to obtain; (6) whether the Commission should require VRS and IP Relay providers to provide appropriate warning labels for installation on customer premises equipment (CPE) used in connection with VRS and IP Relay services; (7) whether the Commission should require VRS and IP Relay providers to obtain and keep a record of affirmative acknowledgement by every subscriber of having received and understood the advisory that E911 service may not be available through VRS and IP Relay or may be in some way limited by comparison to traditional E911 service; and (8) how the Commission may ensure that providers have updated location information, and the respective obligations of the providers and the consumers in this regard. On May 8, 2006, the Commission released the Misuse of IP Relay Service and VRS Further Notice of Proposed Rulemaking, (IP Relay Fraud FNPRM), CG Docket No. 03-123, FCC 06-58 which contained the following information collection requirements involving user registration, e.g., callers register to use VRS and IP Relay and provide their requisite information as necessary: The IP Relay Fraud FNPRM sought comment on: (1) Whether IP Relay and VRS providers should be required to implement user registration systems in which users provide certain information to their providers, in advance, as a means of curbing illegitimate IP Relay and VRS calls; (2) what information should users be required to provide; (3) whether there are steps that could be taken, or technology implemented, to prevent the wrongful use of registration information; and (4) whether the Commission should require VRS and IP Relay providers to maintain records of apparently illegitimate calls that were terminated by the providers.

Note: The Commission merged the IP Relay Fraud FNPRM collection with the Emergency Access NPRM collection to avoid duplication.

On May 9, 2006, the Commission released the VRS Interoperability Notice of Proposed Rulemaking (Interoperability FNPRM), In the Matter of Telecommunications Relay Services and Speech-to-Speech Services for individuals with Hearing and Speech Disabilities, CG Docket No. 03-123, FCC 06-57. In the Interoperability FNPRM, the Commission sought comment on the feasibility of establishing a single, open, and global database of proxy numbers for VRS users that would be available to all service providers, so that a hearing person can call a VRS user through any VRS provider, and without having first to ascertain the VRS user's current IP address. The Commission also sought comment on nature of the proxy numbers that might be used and how they might be administered. The Commission sought comment on the role of the Commission in creating and maintaining the database. In the Interoperability FNPRM, the Commission recognized: (a) That when a hearing person contact a VRS user by calling a VRS provider, the calling party has to know in advance the IP address of the VRS user so that the calling party can give that address to the VRS CA (b) that because most consumers' IP addresses are dynamic, the VRS consumer may not know the IP address of his or her VRS equipment at a particular time; (c) that some VRS providers have created their own database of “proxy” or “alias” numbers that associate with the IP address of their customers, even if a particular person's IP address is dynamic and changes; (d) that databases are maintained by the service provider and, generally, are not shared with other service providers; and (e) that a person desiring to call a VRS consumer via the consumer's proxy number can only use the services of the VRS provider that generates the number.

The Interoperability FNPRM proposed the following information collection requirements involving an open, global database of VRS proxy numbers. The Interoperability FNPRM sought comment on: (1) Whether VRS providers should be required to provide information to populate an open, global database of VRS proxy numbers and to keep the information current; (2) whether the Interstate TRS Fund administrator, a separate entity, or a consortium of service providers should be responsible for the maintenance and operation of an open, global database of VRS proxy numbers; (3) whether Deaf and hard of hearing individuals using video broadband communication need uniform and static end-point numbers should be linked to the North American Numbering Plan (NANP) that would remain consistent across all VRS providers so that they can contact one another and be contacted to the same extent that Public Switched Telephone Network (PSTN) and VoIP users are able to identify and call one another; (4) whether participation by service providers should be mandatory so that all VRS users can receive incoming calls.

Federal Communications Commission.
Marlene H. Dortch,
Secretary.

[FR Doc. E7-22340 Filed 11-14-07; 8:45 am]

BILLING CODE 6712-01-P